DEPARTMENT OF ENERGY

Federal Energy Regulatory Commission

[Project No. 1893-042]

Public Service Company of New Hampshire; Notice of Site Visit, Scoping Meetings and Soliciting Scoping Comments

June 3, 2004.

a. Type of Application: New major license.

b. Project No.: P-1893-042.

c. Date filed: December 30, 2003.

d. Applicant: Public Service Company of New Hampshire (PSNH).

e. Name of Project: Merrimack River Project.

f. Location: On the Merrimack River, in Merrimack and Hillsborough counties, New Hampshire. The project does not occupy Federal lands.

g. Filed Pursuant to: Federal Power Act, 16 U.S.C. 791(a)-825(r).

h. Applicant Contact: James J. Kearns, 780 North Commercial Street, P.O. Box 330, Manchester, NH 03105 (603) 634-2936.

i. FERC Contact: Steve Kartalia, Stephen.kartalia@ferc.gov (202) 502-6131.

j. Deadline for filing scoping comments: July 26, 2004.

All documents (original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's Web site (http://www.ferc.gov) under the “e-Filing” link.

k. The Merrimack project consists of three developments described below:

The Amoskeag Development consisting of: (1) A 29-foot-high, 710-foot-long concrete gravity dam comprised of: (i) A low crest section with 5-foot-high flashboards; and (ii) a high crest section with 3-foot-high flashboards; (2) a 7-mile-long, 478-acre reservoir; (3) a powerhouse, integral with the dam, containing three generating units with a total installed capacity of 16,000 kW; (4) a 415-foot-long, 34.5-kV double circuit transmission line; and (5) other appurtenances.

The Hooksett Development consisting of: (1) A dam comprised of: (i) A 340-foot-long stone masonry section with 2-foot-high flashboards connected to; (ii) a 250-foot-long concrete section with 2-foot-high flashboards; (2) a 15-foot by 20-foot Taintor gate; (3) a 5.5-mile-long, 405-acre reservoir; (4) a powerhouse containing a single generating unit with an installed capacity of 1,600 kW; and (5) other appurtenances.

The Garvins Falls Development consisting of: (1) An 18-foot-high, 550-foot-long concrete and granite gravity dam comprised of: (i) A low crest section with 3-foot-high flashboards; and (ii) a high crest section with 1.2-foot-high flashboards; (2) an 8-mile-long reservoir; (3) a 500-foot-long water canal with a 10-foot-wide waste gate; (4) two powerhouses, each containing two generating units for a total installed capacity of 12,300 kW; (5) a 340-foot-long, 34.5-kV transmission line; and (6) other appurtenances.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

You may also register online at http://www.ferc.gov/docs-filing/esubscription.asp to be notified via email of new filings and issuances related to this or other pending projects. For assistance, contact FERC Online Support.

m. Scoping Process: Commission staff intend to prepare an Environmental Assessment (EA) on the project in accordance with the National Environmental Policy Act once the final license application is filed. The EA will consider both site-specific and cumulative environmental impacts and reasonable alternatives to the proposed action.

n. Scoping Meetings: Commission staff will conduct a site visit, one agency scoping meeting and one public meeting. The agency scoping meeting will focus on resource agency, Indian Tribes, and non-governmental organization concerns, while the public scoping meeting is primarily for public input. All interested individuals, organizations, resource agencies, and Indian Tribes are invited to attend one or both of the meetings, and to assist the staff in identifying the scope of the environmental issues that should be analyzed in the EA. The times and locations of these meetings are as follows:

Site Visit

When: Wednesday, June 23, 2004, 10 a.m. to 2 p.m. (e.s.t.).

Where: PSNH 5 Rivers auditorium, PSNH Energy Park, 780 North Commercial St., Manchester, NH, RSVP to Applicant Contact (item h) by June 15.

Public Scoping Meeting

When: Wednesday, June 23, 2004, 7 p.m. to 9 p.m. (e.s.t.).

Where: PSNH auditorium in Manchester.

Agency Scoping Meeting

When: Thursday, June 24, 2004, 10 a.m. to noon (e.s.t.).

Where: PSNH auditorium in Manchester.

Copies of the Scoping Document (SD1) outlining the subject areas to be addressed in the EA were distributed to the parties on the Commission(s mailing list. Copies of the SD1 will be available at the scoping meeting or may be viewed on the Web at http://www.ferc.gov using the “eLibrary” link (see item l above).

o. Objectives: At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff(s preliminary views; (4) determine the resource issues to be addressed in the EA; and (5) identify those issues that require a detailed analysis, as well as those issues that do not require a detailed analysis.

p. Procedures: The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. E4-1304 Filed 6-9-04; 8:45 am]

BILLING CODE 6717-01-P